NATIONAL CREDIT UNION ADMINISTRATION

Sunshine Act: Notice of Agency Meeting

TIME AND DATE: 8:30 a.m., Thursday, January 15, 2015.

PLACE: Board Room, 7th Floor, Room 7047, 1775 Duke Street, Alexandria, VA 22314-3428.

STATUS: Closed.

MATTERS TO BE CONSIDERED: 1. Proposed Merger under NCUA's Rules and Regulations. Closed pursuant to Exemption (8).

2. Creditor Claim Appeal. Closed pursuant to Exemption (6).

3. Consideration of Personnel Matters and Supervisory Activities. Closed pursuant to Exemptions (6) and (8).

RECESS: 9:45 a.m.

TIME AND DATE: 10:00 a.m., Thursday, January 15, 2015.

PLACE: Board Room, 7th Floor, Room 7047, 1775 Duke Street (All visitors must use Diagonal Road Entrance), Alexandria, VA 22314-3428.

STATUS: Open.

MATTERS TO BE CONSIDERED: 1. NCUA's 2015-2016 Annual Performance Plan.

2. NCUA's Rules and Regulations, Capital Planning and Stress Testing Schedules.

3. Community Charter Request, 360 Federal Credit Union (Windsor Locks, CT).

4. NCUA's Rules and Regulations, Prompt Corrective Action and Risk-Based Capital Measures.

FOR FURTHER INFORMATION CONTACT: Gerard Poliquin, Secretary of the Board, Telephone: 703-518-6304.

Gerard Poliquin,
Secretary of the Board.

[FR Doc. 2015-00331 Filed 1-8-15; 4:15 pm]

BILLING CODE 7535-01-P